DEPARTMENT OF ENERGY

Federal Energy Regulatory Commission

[Docket No. IC03-121-001, FERC Form 121]

Commission Information Collection Activities, Proposed Collection; Comment Request; Submitted for OMB Review

December 24, 2003.

AGENCY: Federal Energy Regulatory Commission, Department of Energy.

ACTION: Notice.

SUMMARY: In compliance with the requirements of Section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of October 9, 2003 (68 FR 57678-79) and has made this notation in its submission to OMB.

DATES: Comments on the collection of information are due by January 30, 2004.

ADDRESSES: Address comments on the collection of information to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at (202) 395-7856. A copy of the comments should also be sent to the Federal Energy Regulatory Commission, Office of the Executive Director, ED-30, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC03-121-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 121 “Application for Determination of the Maximum Lawful Price under the Natural Gas Policy Act”

2. Sponsor: Federal Energy Regulatory Commission

3. Control No. 1902-0038.

The Commission is now requesting that OMB approve a three-year extension of the expiration date, with no changes to the existing collection. The information filed with the Commission is mandatory.

4. Necessity of the Collection of Information: Submission of the information is necessary to enable the Commission to carry out its responsibilities in implementing the statutory provisions of Section 503 of the Natural Gas Policy Act of 1978 (NGPA), 15 U.S.C. 3413. In Order No. 616 (July 14, 2000), the Commission reinstated provisions for making well category determinations for NGPA Section 107 high cost gas wells. Natural gas wells with affirmative determinations under Section 503 of the NGPA are eligible for a tax credit. Specifically, Section 29 of the Internal Revenue Code allows natural gas producers to claim a credit for qualified fuels determined to be high-cost natural gas production. These include gas from geopressured brine, Devonian shale, coal seams, and tight formations from wells completed in a previously approved designated tight formation area.

5. One of three applicability rules must be met for any one of the above gas well completions to qualify for the credit. The three applicability rules are as follows:

i. A well where the surface drilling began after December 31, 1979 but before January 1, 1993; or

ii. A recompletion commenced after January 1, 1993, in a well where the surface drilling began after December 31, 1979, but before January 1, 1993; or

iii. A recompletion commenced after December 31, 1979, but before January 1, 1993, where such, gas could not have been produced from any completion location in existence in the well bore before January 1, 1980.

Jurisdictional agencies are state agencies that conduct the initial well determination and forward the completed application to the Commission. The general filing requirements for filing with a jurisdictional agency and the Commission are a FERC Form 121, all available well completion reports, well logs with their headings, a location plat, and an affidavit. These documents are the minimum requirements to support a request for determination. However, the jurisdictional agency may require additional documentation as it finds necessary. In addition, the Commission may request any other explanatory statement with factual findings and references or a copy of all other materials that the jurisdictional agency relied upon during the course of making the determination, in order to assist the Commission in its review of the initial determination.

Review of an initial determination involves collating all of the information from the FERC Form No. 121 application and the completion reports, well logs, location plat, and affidavit. The completion interval on the FERC Form 121 application is identified in the completion report, which illustrates the type of natural gas production treatment (i.e., perforation, acidization, fracturing, etc.). Evidence of natural gas production is further supported by the well log(s), which explicitly distinguish the interval boundaries within the formation and identify natural gas characteristics. The location plat is a map that identifies the surface location of the well and the completion location in the well. Finally, the affidavit is a statement made by the applicant, under oath, that the natural gas is produced from one of three applicability rules identified above. (See FERC-568 for supporting documentation)

The Commission's staff uses the information to review the initial determinations in order to ascertain if the submissions are eligible for the Section 29 tax credit. In fiscal years 2001 and 2002 the Commission processed over 2,500 determinations. For fiscal year 2003, the Commission processed an additional 1,600 determinations for a total of over 4,100 determinations since the issuance of Order 616 and the implementation of the program in October 2000. The Commission implements these filing requirements in the Code of Federal Regulations (CFR) under 18 CFR Part 270.

6. Respondent Description: The respondent universe currently comprises 1,400 companies (on average per year) subject to the Commission's jurisdiction.

7. Estimated Burden: 1,050 total hours, 1,400 respondents (average per year), 1 response per respondent, and .25 hours per response (average).

8. Estimated Cost Burden to respondents: 350 hours per year (1,050 hours for 3 year period) 350/2080 hours per year × $107,185 per year = $18,036. The cost per respondent is equal to $13.00.

Statutory Authority: Section 503 of the Natural Gas Policy Act of 1978, 15 U.S.C. 3413.

Linda Mitry,
Acting Secretary.

[FR Doc. 04-150 Filed 1-5-04; 8:45 am]

BILLING CODE 6717-01-P